DEPARTMENT OF TRANSPORTATION

National Highway Traffic Safety Administration

[Docket No. NHTSA-2014-0046; Notice 1]

Chrysler Group, LLC, Receipt of Petition for Decision of Inconsequential Noncompliance

AGENCY: National Highway Traffic Safety Administration (NHTSA), Department of Transportation (DOT).

ACTION: Receipt of Petition.

SUMMARY: Chrysler Group, LLC, (Chrysler), a wholly owned subsidiary of Fiat S.p.A., has determined that certain model year (MY) 2014 Jeep Cherokee multipurpose passenger vehicles (MPV), and MY 2013-2014 Dodge Dart passenger cars (PC) do not fully comply with paragraph S5.2.1 of Federal Motor Vehicle Safety Standard (FMVSS) No. 101, Controls and Displays and paragraph S5.5.5 of FMVSS No. 135,¹ Light Vehicle Brake Systems. Chrysler has filed an appropriate report dated March 4, 2014 pursuant to 49 CFR part 573, Defect and Noncompliance Responsibility and Reports.

¹ Subsequent to receiving Chrysler's petition, NHTSA was notified by the petitioner that it had inadvertently referred to FMVSS No. 105, a standard that does not apply to the subject vehicles, in its petition.

DATES: The closing date for comments on the petition is July 30, 2014.

ADDRESSES: Interested persons are invited to submit written data, views, and arguments on this petition. Comments must refer to the docket and notice number cited at the beginning of this notice and be submitted by any of the following methods:

• Mail: Send comments by mail addressed to: U.S. Department of Transportation, Docket Operations, M-30, West Building Ground Floor, Room W12-140, 1200 New Jersey Avenue SE., Washington, DC 20590.

• Hand Deliver: Deliver comments by hand to: U.S. Department of Transportation, Docket Operations, M-30, West Building Ground Floor, Room W12-140, 1200 New Jersey Avenue SE., Washington, DC 20590. The Docket Section is open on weekdays from 10 a.m. to 5 p.m. except Federal Holidays.

• Electronically: Submit comments electronically by: logging onto the Federal Docket Management System (FDMS) Web site at http://www.regulations.gov/. Follow the online instructions for submitting comments. Comments may also be faxed to (202) 493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to a docket may be viewed by anyone at the address and times given above. The documents may also be viewed on the Internet at http://www.regulations.gov by following the online instructions for accessing the dockets. DOT's complete Privacy Act Statement is available for review in the Federal Register published on April 11, 2000, (65 FR 19477-78).

The petition, supporting materials, and all comments received before the close of business on the closing date indicated below will be filed and will be considered. All comments and supporting materials received after the closing date will also be filed and will be considered to the extent possible. When the petition is granted or denied, notice of the decision will be published in the Federal Register pursuant to the authority indicated below.

SUPPLEMENTARY INFORMATION: I. Chrysler's Petition: Pursuant to 49 U.S.C. 30118(d) and 30120(h) (see implementing rule at 49 CFR part 556), Chrysler submitted a petition for an exemption from the notification and remedy requirements of 49 U.S.C. Chapter 301 on the basis that this noncompliance is inconsequential to motor vehicle safety.

This notice of receipt of Chrysler's petition is published under 49 U.S.C. 30118 and 30120 and does not represent any agency decision or other exercise of judgment concerning the merits of the petition.

II. Vehicles Involved: Affected are approximately 411 MY 2014 Jeep Cherokee MPV manufactured between June 17, 2013 and January 14, 2014 and 22 MY 2013-2014 Dodge Dart PC manufactured between July 1, 2012 and December 13, 2013.

III. Noncompliance: Chrysler explains that the noncompliance is that the telltale used for Brake Warning and Park Brake Warning is displayed using International Organization for Standardization (ISO) symbols instead of the telltale symbol required by S5.2.1 of FMVSS No. 101 and paragraph S5.5.5 of FMVSS No. 135.

IV. Rule Text: Paragraph S5.2.1 of FMVSS No. 101 requires in pertinent part:

S5.2.1 Except for the Low Tire Pressure Telltale, each control, telltale and indicator that is listed in column 1 of Table 1 or Table 2 must be identified by the symbol specified for it in column 2 or the word or abbreviation specified for it in column 3 of Table 1 or Table 2. If a symbol is used, each symbol provided pursuant to this paragraph must be substantially similar in form to the symbol as it appears in Table 1 or Table 2. If a symbol is used, each symbol provided pursuant to this paragraph must have the proportional dimensional characteristics of the symbol as it appears in Table 1 or Table 2.

Paragraph S5.5.5 of FMVSS No. 135 requires in pertinent part:

S5.5.5. Labeling. (a) Each visual indicator shall display a word or words in accordance with the requirements of Standard No. 101 (49 CFR 571.101) and this section, which shall be legible to the driver under all daytime and nighttime conditions when activated. Unless otherwise specified, the words shall have letters not less than 3.2 mm (⅛ inch) high and the letters and background shall be of contrasting colors, one of which is red. Words or symbols in addition to those required by Standard No. 101 and this section may be provided for purposes of clarity.

(b) Vehicles manufactured with a split service brake system may use a common brake warning indicator to indicate two or more of the functions described in S5.5.1(a) through S5.5.1(g). If a common indicator is used, it shall display the word “Brake.” . . .

V. Summary of Chrysler's Analyses: Chrysler stated its belief that the subject noncompliance is inconsequential to motor vehicle safety for the following reasons:

1. Chrysler notes that the purpose of the brake telltale is to warn the operator about either one of two conditions: (1) The parking brake is applied or is malfunctioning; or (2) the service brakes may be malfunctioning. The affected vehicles “brake display telltale” illuminates in red as required and, except for the missing identifier word “Brake,” the vehicles comply with all other applicable FMVSS requirements. When the telltale is not illuminated, there is no degradation of brake performance. All braking system functionality, including service brakes and the parking brake is unaffected by this noncompliance and the subject vehicles will operate as intended. Even though the word “Brake” is not used, Chrysler's stated its belief that in the event one of the affected vehicles displayed the red-color ISO brake telltale, the driver would recognize a possible brake system malfunction.

2. Chrysler states that the telltale functions as both the vehicle's brake system symbol and the parking brake symbol. In the Dart, the parking brake is engaged by pulling up on the parking brake handle in view of the instrument cluster where the brake telltale is illuminated. In the Cherokee, the parking brake is electronic where a 5 second “Parking Brake Engaged” message is displayed in the Electronic Vehicle Information Center (EVIC) and the brake telltale is illuminated in the instrument cluster. The brake telltale also illuminates during the cluster warning lamp function check. Due to the ISO telltale illumination during parking brake engagement and during lamp function checks, an operator is conditioned to associate the telltale with the braking system and would be alerted in the event of a possible brake system malfunction. In the unlikely event the ISO brake telltale is illuminated and the operator does not understand its meaning, the ISO brake telltale graphic is shown and described in the Owner's Manual for both vehicles. Thus, an operator could easily determine that the ISO telltale relates to the brake system.

3. Chrysler also believes that in the subject vehicles, in the event the brake fluid level is less than the recommended level, the brake telltale is illuminated and the EVIC will display a five second “Brake Fluid Low” message that continues until the condition is corrected. This additional visual input to the operator helps facilitate the association of the telltale with the braking system.

4. Chrysler has stated its belief that NHTSA has previously granted a similar inconsequential noncompliance petition regarding the use of ISO symbols.

5. Chrysler is not aware of any warranty claims, field reports, consumer complaints, legal claims or any incidents or injuries related to the subject noncompliance.

Chrysler has additionally informed NHTSA that it has corrected the noncompliance so that all future production vehicles will comply with FMVSS No. 101 and FMVSS No. 135.

In summation, Chrysler believes that the described noncompliance of the subject vehicles is inconsequential to motor vehicle safety, and that its petition, to exempt Chrysler from providing recall notification of noncompliance as required by 49 U.S.C. 30118 and remedying the recall noncompliance as required by 49 U.S.C. 30120 should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that Chrysler no longer controlled at the time it determined that the noncompliance existed. However, any decision on this petition does not relieve Chrysler distributors and dealers of the prohibitions on the sale, offer for sale, or introduction or delivery for introduction into interstate commerce of the noncompliant motor vehicles under their control after Chrysler notified them that the subject noncompliance existed.

Authority: (49 U.S.C. 30118, 30120: delegations of authority at 49 CFR 1.95 and 501.8).

Jeffrey M. Giuseppe,
Acting Director, Office of Vehicle Safety Compliance.

[FR Doc. 2014-15211 Filed 6-27-14; 8:45 am]

BILLING CODE 4910-59-P